DEPARTMENT OF ENERGY

Federal Energy Regulatory Commission

Combined Notice of Filings

Take notice that the Commission has received the following Natural Gas Pipeline Rate and Refund Report filings:

Filings Instituting Proceedings

Docket Numbers: RP26-406-000.

Applicants: Iroquois Gas Transmission System, L.P.

Description: § 4(d) Rate Filing: 1.26.26 Negotiated Rates—Emera Energy Services, Inc. H-2715-89 to be effective 1/26/2026.

Filed Date: 1/26/26.

Accession Number: 20260126-5269.

Comment Date: 5 p.m. ET 2/9/26.

Docket Numbers: RP26-407-000.

Applicants: Iroquois Gas Transmission System, L.P.

Description: § 4(d) Rate Filing: 1.26.26 Negotiated Rates—Mercuria Energy America, LLC H-7540-89 to be effective 1/26/2026.

Filed Date: 1/26/26.

Accession Number: 20260126-5273.

Comment Date: 5 p.m. ET 2/9/26.

Docket Numbers: RP26-408-000.

Applicants: Iroquois Gas Transmission System, L.P.

Description: § 4(d) Rate Filing: 1.26.26 Negotiated Rates—Trafigura Trading LLC H-8150-89 to be effective 1/27/2026.

Filed Date: 1/26/26.

Accession Number: 20260126-5275.

Comment Date: 5 p.m. ET 2/9/26.

Docket Numbers: RP26-409-000.

Applicants: Adelphia Gateway, LLC.

Description: § 4(d) Rate Filing: Adelphia Gateway Emergency Tariff Filing to be effective 1/26/2026.

Filed Date: 1/26/26.

Accession Number: 20260126-5311.

Comment Date: 5 p.m. ET 2/9/26.

Docket Numbers: RP26-410-000.

Applicants: Equitrans, L.P.

Description: § 4(d) Rate Filing: Negotiated Rate Agreements—1/24/2026 to be effective 1/24/2026.

Filed Date: 1/27/26.

Accession Number: 20260127-5002

Comment Date: 5 p.m. ET 2/9/26.

Docket Numbers: RP26-411-000.

Applicants: Transcontinental Gas Pipe Line Company, LLC.

Description: § 4(d) Rate Filing: Rate Schedule S-2 Tracker Filing Eff 2/1/2026 to be effective 2/1/2026.

Filed Date: 1/27/26.

Accession Number: 20260127-5040.

Comment Date: 5 p.m. ET 2/9/26.

Docket Numbers: RP26-412-000.

Applicants: Big Sandy Pipeline, LLC.

Description: Compliance filing: Big Sandy Fuel Filing Effective 3-1-2026 to be effective N/A.

Filed Date: 1/27/26.

Accession Number: 20260127-5143.

Comment Date: 5 p.m. ET 2/9/26.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding. The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: January 27, 2026.
Carlos D. Clay,
Deputy Secretary.

[FR Doc. 2026-01849 Filed 1-29-26; 8:45 am]

BILLING CODE 6717-01-P